DEPARTMENT OF THE TREASURY

Submission for OMB Review; Comment Request

April 21, 2000.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before June 5, 2000 to be assured of consideration.

Internal Revenue Service (IRS)

OMB Number: 1545-0238.

Form Number: IRS Form W-2G.

Type of Review: Extension.

Title: Certain Gambling Winnings.

Description: Internal Revenue Code (IRC) section 6041 requires payers of certain gambling winnings to report them to IRS. If applicable, section 3402(g) and section 3406, require tax withholding on these winnings. We use the information to ensure taxpayer income reporting compliance.

Respondents: Business or other for-profit, Not-for-profit institutions, State, Local or Tribal Government.

Estimated Number of Respondents: 6,400.

Estimated Burden Hours Per Respondent: 19 minutes.

Frequency of Response: Annually.

Estimated Total Reporting Burden: 1,272,479 hours.

OMB Number: 1545-0274.

Form Number: IRS Form 2163(c).

Type of Review: Extension.

Title: Employment—Reference Inquiry.

Description: Form 2163(c) is used by IRS to verify past employment and to question listed and developed references as to the character and integrity of current and potential IRS employees. The information received is incorporated into a report on which a security determination is based.

Respondents: Business or other for-profit, Individuals or households, Not-for-profit institutions, Farms, Federal Government, State, Local or Tribal Government.

Estimated Number of Respondents: 20,000.

Estimated Burden Hours Per Respondent: 12 minutes.

Frequency of Response: On occasion.

Estimated Total Reporting Burden: 4,000 hours.

OMB Number: 1545-0967.

Form Number: IRS Form 83-F.

Type of Review: Extension.

Title: U.S. Estate or Trust Income Tax Declaration and Signature for Electronic and Magnetic Media Filing.

Description: This form is used to secure taxpayer signatures and declaration in conjunction with electronic and magnetic media filing of trust and fiduciary income tax returns. This form, together with the electronic and magnetic media transmission, will comprise the taxpayer's income tax return (Form 1041).

Respondents: Individuals or households, Business or other for-profit.

Estimated Number of Respondents/Recordkeepers: 1,000.

Estimated Burden Hours Per Respondent/Recordkeeper:

| Minutes
Recordkeeping | 7
Learning about the law or the form | 5
Preparing the form | 18
Copying, assembling, and sending the form to the IRS | 20

Frequency of Response: Annually.

Estimated Total Reporting/Recordkeeping Burden: 830 hours.

OMB Number: 1545-0970.

Form Number: IRS Form 8453-P.

Type of Review: Extension.

Title: U.S. Partnership Declaration and Signature for Electronic Filing.

Description: This form is used to secure the general partner's signature and declaration in conjunction with the electronic filing of a partnership return (Form 1065). Form 8453-P, together with the electronic transmission, will comprise the partnership's return.

Respondents: Business or other for-profit.

Estimated Number of Respondents/Recordkeepers: 500.

Estimated Burden Hours Per Respondent/Recordkeeper:

| Minutes
Recordkeeping | 7
Learning about the law or the form | 5
Preparing the form | 20
Copying, assembling, and sending the form to the IRS | 17

Frequency of Response: Annually.

Estimated Total Reporting/Recordkeeping Burden: 410 hours.

OMB Number: 1545-1227.

Regulation Project Number: FI-104-90 Final.

Type of Review: Extension.

Title: Tax Treatment of Salvage and Reinsurance.

Description: The regulation provides a disclosure requirement for an insurance company that increases losses shown on its annual statement by the amount of estimated salvage recoverable taken into account.

Respondents: Business or other for-profit.

Estimated Number of Respondents: 2,500.

Estimated Burden Hours Per Respondent: 2 hours.

Frequency of Response: Annually.

Estimated Total Reporting Burden: 5,000 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports, Management Officer.

[FR Doc. 00-11300 Filed 5-4-00; 8:45 am]

BILLING CODE 4830-01-P